DEPARTMENT OF THE INTERIOR

Bureau of Land Management

[CACA-49575 L51010000 FX0000 LVRWB09B3220 LLCAD08000]

Notice of Availability of the Final Environmental Impact Statement for the Chevron Energy Solutions Lucerne Valley Solar Project, California and the Proposed Amendment to the California Desert Conservation Area Plan

AGENCY: Bureau of Land Management, Interior.

ACTION: Notice of Availability.

SUMMARY: In accordance with the National Environmental Policy Act of 1969, as amended, and the Federal Land Policy and Management Act of 1976, as amended, the Bureau of Land Management (BLM) has prepared a Proposed California Desert Conservation Area Plan (CDCA Plan) Amendment/Final Environmental Impact Statement (EIS) for the Chevron Energy Solutions Lucerne Valley Solar Project and by this notice is announcing its availability.

DATES: The publication of the Environmental Protection Agency's (EPA) Notice of Availability of this Final EIS in the Federal Register initiates a 30-day public comment period. Submit comments to Greg Thomsen by mail 22835 Calle San Juan de Los Lagos, Moreno Valley, California 92553; or e-mail lucernesolar@blm.gov. In addition, BLM planning regulations state that any person who meets the conditions as described in the regulations may protest the BLM's Proposed CDCA Plan Amendment. A person who meets the conditions and files a protest must do so within 30 days of the date that the Environmental Protection Agency publishes its notice of availability in the Federal Register.

ADDRESSES: Interested persons may also review the Proposed CDCA Plan Amendment/Final EIS at the following Web site: http://www.blm.gov/ca/st/en/prog/energy/fasttrack.html. All protests must be in writing and mailed to one of the following addresses:

Regular mail | Overnight mail
BLM Director (210), Attention: Brenda Williams, P.O. Box 66538, Washington, DC 20035 | BLM Director (210), Attention: Brenda Williams, 1620 L Street, NW., Suite 1075, Washington, DC 20036.

FOR FURTHER INFORMATION CONTACT: Greg Thomsen; telephone (951) 697-5237; address 22835 Calle San Juan de Los Lagos, Moreno Valley, California 92553; e-mail lucernesolar@blm.gov.

SUPPLEMENTARY INFORMATION: Chevron Energy Solutions (CES) has requested a 516 acre right-of-way (ROW) authorization from the BLM for the CES Lucerne Valley Solar Project, consisting of construction and operation of a 45 megawatt (MW) solar photovoltaic project which would connect to an existing Southern California Edison 33 kilovolt (kV) distribution system. The proposed project would include a new switchyard, a control and maintenance building, and a parking area. Pursuant to BLM's CDCA Plan (1980, as amended), sites associated with power generation or transmission not identified in the CDCA Plan will be considered through the plan amendment process. The Final EIS considers five alternatives, including the project as proposed by the applicant, the no action alternative; a no project alternative with a plan amendment that classifies the lands as either “suitable” or “unsuitable” for solar energy development; a smaller 30 MW facility of 238 acres; and the preferred alternative: a modified design of the proposed project that addresses some of the environmental concerns. Copies of the proposed CDCA Plan Amendment/Final EIS are available for public inspection at 22835 Calle San Juan de Los Lagos, Moreno Valley, California. Comments on the Draft CDCA Plan Amendment/Draft EIS received from the public and internal BLM review were considered and incorporated as appropriate into Final EIS. Public comments resulted in the addition of clarifying text, but did not significantly change any of the proposed decisions.

Instructions for filing a protest with the Director of the BLM regarding the Proposed CDCA Plan Amendment/Final EIS may be found in the “Dear Reader Letter” of the CES Lucerne Valley Solar Project Final EIS and Proposed CDCA Plan Amendment and at 43 CFR 1610.5-2. Protests must be received by the Director by the close of the protest period to be accepted as valid. Protests that are postmarked by the close of the protest period, but received by the Director after the close of the protest period, will only be accepted as valid if the protesting party also provides a faxed or e-mailed advance copy before the close of the protest period. To provide the BLM with such advance notification, please fax protests to the attention of Brenda Hudgens-Williams, BLM protest coordinator at 202-912-7129, or e-mail protests to: Brenda_Hudgens-Williams@blm.gov.

All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Thomas Pogacnik,
Deputy State Director, Natural Resources.

Authority: 40 CFR 1506.6 and 1506.10 and 43 CFR 1610.2 and 1610.5.

[FR Doc. 2010-19916 Filed 8-12-10; 8:45 am]

BILLING CODE 4310-40-P